NATIONAL SCIENCE FOUNDATION

Agency Information Collection Activities: Comment Request; Participatory Research and Indigenous Leadership in Research Evaluation

ACTION: Correction.

SUMMARY: The National Science Foundation (NSF) published a document in the Federal Register of September 25, 2024, concerning a request for public comment on the Participatory Research and Indigenous Leadership in Research Evaluation. In the description of the Principles for Conducting Research in the Arctic, one principle was omitted.

Corrections

In the Federal Register published September 25, 2024, in FR Doc. 2024-21973 (Filed 9-24-24), on page 78345, at the top of the second column, please include “Respect Indigenous knowledges” before “Effective Communication.”

All other details remain unchanged.

Dated: September 26, 2024.
Suzanne H. Plimpton,
Reports Clearance Officer, National Science Foundation.

[FR Doc. 2024-22503 Filed 9-30-24; 8:45 am]

BILLING CODE 7555-01-P